DEPARTMENT OF TRANSPORTATION

Federal Aviation Administration

14 CFR Part 39

[Docket No. FAA-2012-0291; Directorate Identifier 2011-NM-168-AD; Amendment 39-17158; AD 2012-16-11]

RIN 2120-AA64

Airworthiness Directives; Airbus Airplanes

AGENCY: Federal Aviation Administration (FAA), Department of Transportation (DOT).

ACTION: Final rule.

SUMMARY: We are adopting a new airworthiness directive (AD) for certain Airbus Model A318-112 and -121 airplanes; Model A319-111, -112, -115, -132, and -133 airplanes; Model A320-214, -232, and -233 airplanes; and Model A321-211, -212, -213, and -231 airplanes. This AD was prompted by reports that some nuts installed on the wing, including on primary structural elements, were found cracked. This AD requires inspecting to determine if certain nuts are installed or cracked, and replacing the affected nuts if necessary. We are issuing this AD to detect and correct missing and cracked nuts, which could result in the structural integrity of the airplane wings being impaired.

DATES: This AD becomes effective September 21, 2012.

The Director of the Federal Register approved the incorporation by reference of a certain publication listed in this AD as of September 21, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Discussion

We issued a notice of proposed rulemaking (NPRM) to amend 14 CFR part 39 to include an AD that would apply to the specified products. That NPRM was published in the Federal Register on March 21, 2012 (77 FR 16492). That NPRM proposed to correct an unsafe condition for the specified products. The MCAI states:

During structural part assembly in Airbus production line, some [wing] nuts Part Number (P/N) ASNA2531-4 were found cracked. Investigations were performed to determine the batches of the affected nuts and had revealed that these nuts have been installed in production on the fuel tank area of aeroplanes listed in the applicability section of this [European Aviation Safety Agency (EASA)] AD.

Static, fatigue and corrosion tests were performed, which demonstrated that no immediate maintenance action is necessary. However, a large number of these nuts are fitted on primary structural elements, which could have long-term consequences.

This condition, if not corrected, could impair the structural integrity of the affected aeroplanes.

For the reasons described above, this [EASA] AD requires a detailed inspection of the affected nuts [for cracking and to determine if nuts are installed], associated corrective actions, depending on findings, and replacement of the affected P/N ASNA2531-4 nuts with new ones, having the same P/N [and reporting to Airbus the inspection results].

This [EASA] AD has been revised to reduce the Applicability. Since no spare nuts have been delivered to operators for installation on Airbus aeroplanes, only the Models and MSN [manufacturer's serial numbers] listed in the Airbus SB are affected by this [EASA] AD.

You may obtain further information by examining the MCAI in the AD docket.

Comments

We gave the public the opportunity to participate in developing this AD. We considered the comments received.

Request To Reference Latest Service Information

Airbus stated that they have issued Revision 02, dated April 6, 2012, of Mandatory Service Bulletin A320-57-1153, including Appendices 01, 02, and 03. Airbus also requested that we revise the NPRM (77 FR 16492, March 21, 2012) to give credit for Airbus Service Bulletin A320-57-1153, Revision 01, including Appendices 01, 02, and 03, dated June 28, 2010 (referenced as the appropriate source of service information for the actions in paragraph (g) of the NPRM).

We agree with the commenter. We reviewed Airbus Mandatory Service Bulletin A320-57-1153, Revision 02, including Appendices 01, 02, and 03, dated April 6, 2012. Revision 02 corrects a part number and revises the title, certain illustrations, and the test job set-up. We also agree, as Revision 02 of that service bulletin states, that there is no additional work required by Revision 02 of this service bulletin for airplanes modified using previous revisions of this bulletin. We have changed paragraphs (g) and (h) of this AD to refer to Airbus Mandatory Service Bulletin A320-57-1153, Revision 02, including Appendices 01, 02, and 03, dated April 6, 2012, and have changed paragraph (i) of this AD (“Credit for Previous Actions”) to include Airbus Service Bulletin A320-57-1153, Revision 01, including Appendices 01, 02, and 03, dated June 28, 2010.

Request To Revise “Costs of Compliance” Section

Airbus requested that we revise the “Costs of Compliance” section of the NPRM (77 FR 16492, March 21, 2012) to correctly state the number of U.S.-registered airplanes affected by this AD, which it noted as 22 airplanes rather than 170 airplanes as stated in the NPRM.

We agree that 22 is the correct number of U.S.-registered airplanes affected by this AD. We have changed the “Costs of Compliance” section of this AD accordingly.

Conclusion

We reviewed the available data, including the comments received, and determined that air safety and the public interest require adopting the AD with the changes described previously—except for minor editorial changes. We have determined that these changes:

• Are consistent with the intent that was proposed in the NPRM (77 FR 16492, March 21, 2012) for correcting the unsafe condition; and

• Do not add any additional burden upon the public than was already proposed in the NPRM (77 FR 16492, March 21, 2012).

Costs of Compliance

We estimate that this AD will affect about 22 products of U.S. registry. We also estimate that it will take up to 15 work-hours per product to comply with the basic requirements of this AD. The average labor rate is $85 per work-hour. Based on these figures, we estimate the cost of this AD to the U.S. operators to be $28,050, or $1,275 per product.

In addition, we estimate that any necessary follow-on actions would take about 143 work-hours and require parts costing $0, for a cost of $12,155 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 16492, March 21, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-16-11 Airbus: Amendment 39-17158. Docket No. FAA-2012-0291; Directorate Identifier 2011-NM-168-AD.

(a) Effective Date

This airworthiness directive (AD) becomes effective September 21, 2012.

(b) Affected ADs

None.

(c) Applicability

This AD applies to Airbus Model A318-112 and -121 airplanes; Model A319-111, -112, -115, -132, and -133 airplanes; Model A320-214, -232, and -233 airplanes; and Model A321-211, -212, -213, and -231 airplanes; certificated in any category; serial numbers 3359, 3361, 3362, 3365, 3366, 3368, 3370 through 3508 inclusive, 3510 through 3519 inclusive, 3522, 3523, 3525, 3527, 3529, 3530, 3533, 3534, 3537, 3539, 3542, 3544, 3546, 3548, 3552, and 3555.

(d) Subject

Air Transport Association (ATA) of America Code 57: Wings.

(e) Reason

This AD was prompted by reports that some nuts installed on the wing, including on primary structural elements, were found cracked. We are issuing this AD to detect and correct missing and cracked nuts, which could result in the structural integrity of the airplane wings being impaired.

(f) Compliance

You are responsible for having the actions required by this AD performed within the compliance times specified, unless the actions have already been done.

(g) Inspection/Replacement of Fuel Tank Nuts

Within the compliance times specified in paragraph (g)(1) or (g)(2) of this AD, whichever occurs later: Do a detailed inspection of the fuel tank areas of the wings to determine if nuts with part number (P/N) ASNA2531-4 are installed or cracked, in accordance with the Accomplishment Instructions of Airbus Mandatory Service Bulletin A320-57-1153, Revision 02, including Appendices 01, 02, and 03, dated April 6, 2012. Before further flight, replace any missing or cracked nut with P/N ASNA2531-4 with a new P/N ASNA2531-4 nut, in accordance with the Accomplishment Instructions of Airbus Mandatory Service Bulletin A320-57-1153, Revision 02, including Appendices 01, 02, and 03, dated April 6, 2012.

(1) Within 6 years after the first flight of the airplane.

(2) Within 6 years after the most recent scheduled fuel tank inspection, or within 6 months after the effective date of this AD, whichever occurs later.

(h) Inspection Report

Submit a report of the findings of the inspection required by paragraph (h) of this AD to Airbus, at the applicable time specified in paragraph (h)(1) or (h)(2) of this AD. Submit the report using “Appendix 01—Inspection Report,” of Airbus Mandatory Service Bulletin A320-57-1153, Revision 02, dated April 6, 2012.

(1) If the inspection was done on or after the effective date of this AD: Submit the report within 90 days after the inspection.

(2) If the inspection was done before the effective date of this AD: Submit the report within 90 days after the effective date of this AD.

(i) Credit for Previous Actions

This paragraph provides credit for the actions required by paragraph (g) of this AD, if those actions were performed before the effective date of this AD using the service information specified in paragraph (i)(1) or (i)(2) of this AD.

(1) Airbus Service Bulletin A320-57-1153, including Appendices 01, 02, and 03, dated February 9, 2010.

(2) Airbus Service Bulletin A320-57-1153, Revision 01, including Appendices 01, 02, and 03, dated June 28, 2010.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Related Information

Refer to MCAI European Aviation Safety Agency (EASA) Airworthiness Directive 2011-0121R1, dated July 13, 2011; and Airbus Mandatory Service Bulletin A320-57-1153, Revision 02, including Appendices 01, 02, and 03, dated April 6, 2012; for related information.

(l) Material Incorporated by Reference

(1) The Director of the Federal Register approved the incorporation by reference (IBR) of the following service information under 5 U.S.C. 552(a) and 1 CFR part 51.

(2) You must use the following service information to do the actions required by this AD, unless the AD specifies otherwise.

(i) Airbus Mandatory Service Bulletin A320-57-1153, Revision 02, including Appendices 01, 02, and 03, dated April 6, 2012.

(ii) Reserved.

(3) For service information identified in this AD, contact Airbus, Airworthiness Office—EAS, 1 Rond Point Maurice Bellonte, 31707 Blagnac Cedex, France; telephone +33 5 61 93 36 96; fax +33 5 61 93 44 51; email: account.airworth-eas@airbus.com; Internet http://www.airbus.com.

(4) You may review copies of the service information at the FAA, Transport Airplane Directorate, 1601 Lind Avenue SW., Renton, Washington. For information on the availability of this material at the FAA, call 425-227-1221.

(5) You may also review copies of the service information that is incorporated by reference at the National Archives and Records Administration (NARA). For information on the availability of this material at an NARA facility, call 202-741-6030, or go to http://www.archives.gov/federal_register/code_of_federal_regulations/ibr_locations.html.

Issued in Renton, Washington, on August 3, 2012.
Ali Bahrami,
Manager, Transport Airplane Directorate, Aircraft Certification Service.

[FR Doc. 2012-19815 Filed 8-16-12; 8:45 am]

BILLING CODE 4910-13-P